SMALL BUSINESS ADMINISTRATION

[Declaration of Disaster #P055]

State of Vermont

As a result of the President's major disaster declaration for Public Assistance on September 23, 2004 the U.S. Small Business Administration is activating its disaster loan program only for private non-profit organizations that provide essential services of a governmental nature. I find that Addison, Caledonia, Chittenden, Franklin, Lamoille, Orleans, and Windham Counties in the State of Vermont constitute a disaster area due to damages caused by severe storms and flooding occurring on August 12, 2004 and continuing through September 12, 2004. Applications for loans for physical damage as a result of this disaster may be filed until the close of business on November 22, 2004 at the address listed below or other locally announced locations: U.S. Small Business Administration, Disaster Area 1 Office, 360 Rainbow Blvd., South, 3rd Floor, Niagara Falls, NY 14303.

The interest rates are:

| Percent
For Physical Damage
Non-profit organizations without credit available elsewhere | 2.900
Non-profit organizations with credit available elsewhere | 4.875

The number assigned to this disaster for physical damage is P05506.

(Catalog of Federal Domestic Assistance Program Nos. 59008.)
Dated: September 28, 2004.
Herbert L. Mitchell,
Associate Administrator for Disaster Assistance.

[FR Doc. 04-22382 Filed 10-5-04; 8:45 am]

BILLING CODE 8025-01-P